DEPARTMENT OF HEALTH AND HUMAN SERVICES

Office of the Secretary

Agency Information Collection Activities: Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed project 1. Empowerment Zones and Enterprise Communities (EZ/EC) Health Improvement Survey—NEW—The Office of the Assistant Secretary for Planning and Evaluation is proposing a survey of directors of EZ/ECs to assess their capacity to engage in health improvement planning efforts. Recognizing that EZ/ECs represent some of the nation's most economically disadvantaged and ethnically diverse urban and rural areas, the survey project is designed to measure the level of interest, commitment and priority assigned to reducing health disparities in these localities. The results of the survey are expected to assist HHS in helping EZ/EC localities devise health planning programs that reflect both community needs and appropriate public health standards. Respondents: EZ/EC Directors—Reporting Burden Information—Number of Respondents: 136; Annual Frequency of Response: one time; Average Burden per Response: 20 minutes; Total Annual Burden: 45 hours.

Send comments to Cynthia Agens Bauer, OS Reports Clearance Officer, Room 503H, Humphrey Building, 200 Independence Avenue SW, Washington, DC 20201. Written comments should be received within 60 days of this notice.

Dated: January 7, 2000.
Dennis P. Williams,
Deputy Assistant Secretary, Budget.

[FR Doc. 00-1169 Filed 1-18-00; 8:45 am]

BILLING CODE 4150-04-M